DEPARTMENT OF JUSTICE

Notice of Lodging of Settlement Agreement Under the Comprehensive Environmental Response, Compensation, and Liability Act

Notice is hereby given that on December 14, 2010, a proposed Garland Road Consent Decree and Settlement Agreement (“Garland Road Settlement Agreement”) in the bankruptcy matter, Motors Liquidation Company, et al., f/k/a General Motors Corp., et al., Jointly Administered Case No. 09-50026 (REG), was lodged with the United States Bankruptcy Court for the Southern District of New York. The Parties to the Garland Road Settlement Agreement are debtors Motors Liquidation Corporation, formerly known as General Motors Corporation, Remediation and Liability Management Company, Inc., and Environmental Corporate Remediation Company, Inc. (collectively, “Old GM”); the United States of America; and the State of Ohio. The Settlement Agreement resolves claims and causes of action of the Environmental Protection Agency (“EPA”) and the Ohio Environmental Protection Agency (“Ohio EPA”) against Old GM under the Comprehensive Environmental Response, Compensation, and Liability Act (“CERCLA”), 42 U.S.C. 9601-9675 with respect to the Garland Road Landfill Superfund Site in Miami County, Ohio (the “Garland Road Site”).

Under the Garland Road Settlement Agreement, Old GM will make a cash payment of $6,732,895 to Ohio EPA for remediation at the Garland Road Site. EPA will receive an allowed general unsecured claim of $2,505,547 for estimated future oversight costs and for unreimbursed past response costs at the Delphi Harrison Site. Ohio EPA will receive an allowed general unsecured claim for $134,326 for unreimbursed past response costs at the Delphi Harrison Site.

The Department of Justice will receive, for a period of thirty days from the date of this publication, comments relating to the Garland Road Settlement Agreement. Comments should be addressed to the Assistant Attorney General, Environment and Natural Resources Division, and either e-mailed to pubcomment-ees.enrd@usdoj.gov or mailed to P.O. Box 7611, U.S. Department of Justice, Washington, DC 20044-7611, and should refer to In re Motors Liquidation Corp., et al., D.J. Ref. 90-11-3-09754. Commenters may request an opportunity for a public meeting in the affected area, in accordance with Section 7003(d) of RCRA, 42 U.S.C. 6973(d).

The Garland Road Settlement Agreement may be examined at the Office of the United States Attorney, 86 Chambers Street, 3rd Floor, New York, New York 10007, and at the U.S. Environmental Protection Agency, Ariel Rios Building, 1200 Pennsylvania Avenue, NW., Washington, DC 20460. During the public comment period, the Garland Road Settlement Agreement may also be examined on the following Department of Justice Web site, http://www.usdoj.gov/enrd/Consent_Decrees.html. Copies of the Garland Road Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.75 (25 cents per page reproduction cost) payable to the U.S. Treasury or, if by e-mail or fax, please forward a check in that amount to the Consent Decree Library at the stated address.

Maureen Katz,
Assistant Section Chief, Environmental Enforcement Section, Environment and Natural Resources Division.

[FR Doc. 2010-31808 Filed 12-17-10; 8:45 am]

BILLING CODE 4410-15-P